ENVIRONMENTAL PROTECTION AGENCY

40 CFR Part 52

[EPA-R05-OAR-2007-1102; EPA-R05-OAR-2008-0782; FRL-9753-7]

Approval and Promulgation of Air Quality Implementation Plans; Ohio; PBR and PTIO

AGENCY: Environmental Protection Agency (EPA).

ACTION: Withdrawal of direct final rule.

SUMMARY: Due to the approval of certain terms that were not meant to be approved, EPA is withdrawing the October 1, 2012 direct final rule approving a revision to the Ohio State Implementation Plan (SIP). EPA will address the revision in a subsequent final action based upon the proposed rulemaking action, which was also published on October 1, 2012. EPA does not expect to institute a second comment period on this action.

DATES: The direct final rule published at 77 FR 59751 on October 1, 2012, is withdrawn as of November 23, 2012.

FOR FURTHER INFORMATION CONTACT: Kaushal Gupta, Environmental Engineer, Air Permits Section, Air Programs Branch (AR-18J), Environmental Protection Agency, Region 5, 77 West Jackson Boulevard, Chicago, Illinois 60604, (312) 886-6803, gupta.kaushal@epa.gov.

SUPPLEMENTARY INFORMATION: EPA is withdrawing the October 1, 2012 direct final rule (77 FR 59751) approving six Permit-by-Rule (PBR) provisions, a Permit to Install and Operate (PTIO) program, two permanent exemptions from the Permit to Install (PTI) requirement and a general permit program as additions to Ohio's SIP. After publication of the direct final rule, it came to EPA's attention that the following had been inadvertently included in the rulemaking action:

• The SIP revision classified municipal incinerators capable of charging more than 250 tons of refuse per day as having a major stationary source emission threshold of 100 tons per year or more. Ohio Administrative Code (OAC) 3745-31-01(LLL)(2)(ix).

• The SIP revision allowed Director's discretion for complying with the public participation notification requirements for Federal Land Managers. OAC 3745-31-06(H)(2)(d).

• The SIP revision allowed Director's discretion and specific exemptions with regard to preconstruction activities. OAC 3745-31-33.

EPA did not intend to act on the above provisions when approving the PBR and PTIO rules and is therefore withdrawing the direct final rule. EPA will publish a subsequent final action based upon the proposed rulemaking action, also published on October 1, 2012 (77 FR 59879), that excludes the above provisions. EPA does not expect to institute a second comment period on this action.

List of Subjects in 40 CFR Part 52

Environmental protection, Air pollution control, Incorporation by reference, Intergovernmental relations, Reporting and recordkeeping requirements.

Authority: 42 U.S.C. 7401 et seq.

Dated: November 8, 2012.
Susan Hedman,
Regional Administrator, Region 5.

PART 52-—[AMENDED]

Accordingly, the amendments to 40 CFR 52.1870 published in the Federal Register on October 1, 2012 (77 FR 59751) on pages 59754-59755 are withdrawn as of November 23, 2012.

[FR Doc. 2012-28329 Filed 11-21-12; 8:45 am]

BILLING CODE 6560-50-P